DEPARTMENT OF DEFENSE

Department of the Air Force

[Docket ID: USAF-2014-0022]

Privacy Act of 1974; System of Records

AGENCY: Department of the Air Force, DoD.

ACTION: Notice to delete two Systems of Records.

SUMMARY: The Department of the Air Force is deleting two systems of records notices in its existing inventory of record systems subject to the Privacy Act of 1974, as amended. The system notices are entitled “F036 AETC N, Student Record Folder” and “F036 AETC P, Student Questionnaire”.

DATES: Comments will be accepted on or before July 16, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force, Air Force Privacy Act Office, Office of Warfighting Integration and Chief Information Officer, ATTN: SAF/CIO A6, 1800 Air Force Pentagon, Washington, DC 20330-1800, or by phone at (571) 256-2515.

SUPPLEMENTARY INFORMATION: The Department of the Air Force systems of records notices subject to the Privacy Act of 1974 (5 U.S.C. 552a), as amended, have been published in the Federal Register and are available from the address in FOR FURTHER INFORMATION CONTACT or at http://dpclo.defense.gov/. The proposed deletions are not within the purview of subsection (r) of the Privacy Act of 1974 (5 U.S.C. 552a), as amended, which requires the submission of a new or altered system report.

Dated: June 11, 2014.
Aaron Siegel,
Alternate OSD Federal Register Liaison Officer, Department of Defense.

Deletion:

F036 AETC N

System Name:

Student Record Folder (January 21, 2005, 70 FR 3190).

Reason:

Redundant with F036 AF AETC A, Student Records (August 13, 2004, 69 FR 50173). All records have run their retention/disposition and have been destroyed. Therefore, F036 AETC N, Student Record Folder can be deleted.

Deletion:

F036 AETC P

System Name:

Student Questionnaire (January 21, 2005, 70 FR 3190).

Reason:

Redundant with F036 AF AETC A, Student Records (August 13, 2004, 69 FR 50173). All records have run their retention/disposition and have been destroyed. Therefore, F036 AETC P, Student Questionnaire can be deleted.

[FR Doc. 2014-14022 Filed 6-13-14; 8:45 am]

BILLING CODE 5001-06-P